DEPARTMENT OF HEALTH AND HUMAN SERVICES

Agency for Healthcare Research and Quality

Meeting of the Citizens' Health Care Working Group

AGENCY: Agency for Healthcare Research and Quality (AHRQ), HHS.

ACTION: Notice of public meeting and hearing.

SUMMARY: In accordance with section 10(a) of the Federal Advisory Committee Act, this notice announces a meeting and hearing of the Citizens' Health Care Working Group mandated by section 1014 of the Medicare Modernization Act.

In addition, the Working Group will sponsor a community forum in which members of the working group will participate.

DATES: The meeting will be held on Tuesday, August 16, 2005, from 1 p.m. to 3:30 p.m. The community forum will be held on Tuesday August 16, 2005, from 5:30 p.m. to 7 p.m. The hearing will be held Wednesday, August 17, 2005, from 8:30 a.m. to 2:30 p.m.

ADDRESSES: Both Tuesday's meeting and Wednesday's hearing will be held at The Conference Center at Harvard Medical, 77 Avenue Louis Pasteur, Boston, MA 02115, in the Harvard Institute of Medicine (HIM) Meeting Room, First Floor.

The community forum will be held at the same address in Harvard Medical's Amphitheater. The amphitheater is located on the ground floor.

The meeting, community forum, and hearing are all open to the public.

FOR FURTHER INFORMATION CONTACT: Caroline Taplin, Citizens' Health Care Working Group, at (301) 443-1515 or ctaplin@ahrq.gov. If sign language interpretation or other reasonable accommodation for a disability is needed, please contact Mr. Donald L. Inniss, Director, Office of Equal Employment Opportunity Program, Program Support Center, on (301) 443-1144.

The agenda for these three Working Group events is available on the Citizens' Working Group Web site, http://www.citizenshealthcare.gov. Also available at that site is a roster of Working Group members. When transcriptions of the Group's August 16 and 17 meeting and hearing are completed, they will be available on the website.

SUPPLEMENTARY INFORMATION: Section 1014 of Pub. L. 108-173, (known as the Medicare Modernization Act) directs the Secretary of the Department of Health and Human Services (DHHS), acting through the Agency for Healthcare Research and Quality, to establish a Citizens' Health Care Working Group (Citizen Group). This statutory provision, codified at 42 U.S.C. 299 n., directs the Working Group to: (1) Identify options for changing our health care system so that every American has the ability to obtain quality, affordable health care coverage; (2) provide for a nationwide public debate about improving the health care system; and (3) submit its recommendations to the President and the Congress.

The Citizens' Health Care Working Group is composed of 15 members: the Secretary of DHHS is designated as a member by the statute and the Comptroller General of the U.S. Government Accountability Office (GAO) was directed to appoint the remaining 14 members. The Comptroller General announced the 14 appointments on February 28, 2005.

Working Group Meeting Agenda

The meeting on August 16 will be devoted to ongoing Working Group business. Topics to be addressed at this meeting include reports from Working Group Committees, plans for release of the required Report to the American People, a budget update and future scheduling plans.

At the hearing on August 17, there will be four panels addressing these initiatives: Mental health; state, county and community health initiatives; employer initiatives; and end of life care.

Submission of Written Information

In general, individuals or organizations wishing to provide written information for consideration by the Citizens' Health Care Working Group should submit information electronically to citizenshealth@ahrq.hhs.gov. The Working Group invites submissions that address the topics to be addressed at the August 16th meeting listed above. Since all electronic submissions will be posted on the Working Group Web site, separate submissions by topic will facilitate review of ideas submitted on each topic by the Working Group and the public.

This notice is published in less than 15 days of meeting & hearing dates due to the logistical difficulties.

Dated: August 2, 2005.
Carolyn M. Clancy,
Director.

[FR Doc. 05-15599 Filed 8-3-05; 12:28 pm]

BILLING CODE 4160-90-M